OVERSEAS PRIVATE INVESTMENT CORPORATION

Sunshine Act Notice; Board of Directors Meeting

TIME AND DATE: Thursday, July 29, 2004, 10 a.m. (Open Portion) 10:15 a.m. (Closed Portion)

PLACE: Offices of the Corporation, Twelfth Floor Board Room, 1100 New York Avenue, NW., Washington, DC.

STATUS: Meeting Open to the Public from 10 a.m. to 10:15 a.m. Closed portion will commence at 10:15 a.m. (approx.)

MATTERS TO BE CONSIDERED: 1. President's Report.

2. Approval of April 29, 2004 Minutes (Open Portion).

FURTHER MATTERS TO BE CONSIDERED: (Closed to the Public 10:15 a.m.)

1. Insurance Project—Bolivia.

2. Finance Project—Bangladesh, India, Indonesia, Malaysia, Philippines, Sri Lanka, Thailand, and Vietnam.

3. Finance Project—Russia.

4. Approval of April 29, 2004 Minutes (Closed Portion).

6. Pending Major Projects.

7. Reports.

CONTACT PERSON FOR INFORMATION: Information on the meeting may be obtained from Connie M. Downs at (202) 336-8438.

Dated: July 15, 2004.
Connie M. Downs,
Corporate Secretary, Overseas Private investment Corporation.

[FR Doc. 04-16417 Filed 7-15-04; 10:25 am]

BILLING CODE 3210-01-M